COMMISSION ON CIVIL RIGHTS

Agenda and Notice of Public Meeting of the Indiana Advisory Committee

Notice is hereby given, pursuant to the provisions of the rules and regulations of the U.S. Commission on Civil Rights, that a meeting of the Indiana Advisory Committee to the Commission will convene at 12:00 p.m. and adjourn at 4:00 p.m. on Thursday, March 30, 2000, at the United Way of St. Joseph County, 3517 East Jefferson Boulevard, South Bend, Indiana 46660. The purpose of the meeting is to review and act on the Committee's report, “A Study of Decisions to Prosecute Homicides and Drug Offenses in Marion County, Indiana,” and plan future activities.

Persons desiring additional information, or planning a presentation to the Committee, should contact Committee Chairperson Hollis E. Hughes, 219-232-8201, or Constance M. Davis, Director of the Midwestern Regional Office, 312-353-8311 (TDD 312-353-8362). Hearing-impaired persons who will attend the meeting and require the services of a sign language interpreter should contact the Regional Office at least ten (10) working days before the scheduled date of the meeting.

The meeting will be conducted pursuant to the provisions of the rules and regulations of the Commission.

Dated at Washington, DC, March 3, 2000.
Carol-Lee Hurley,
Chief, Regional Programs Coordination Unit.

[FR Doc. 00-5848 Filed 3-9-00; 8:45 am]

BILLING CODE 6335-01-P